DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 4 individuals and 1 entity whose property and interests in property have been blocked pursuant to the Foreign Narcotics Kingpin Designation Act (“Kingpin Act”) (21 U.S.C. 1901-1908, 8 U.S.C. 1182).

DATES: The designation by the Director of OFAC of the 4 individuals and 1 entity identified in this notice pursuant to section 805(b) of the Kingpin Act is effective on February 1, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 1, 2011, the Director of OFAC designated 4 individuals and 1 entity whose property and interests in property are blocked pursuant to section 805(b) of the Foreign Narcotics Kingpin Designation Act.

The list of additional designees is as follows:

Entity:

1. LOS GUEROS (a.k.a. “LOS ASQUELINES”; a.k.a. “LOS CALABAZOS”; a.k.a. “LOS GUERITOS”; a.k.a. “LOS GUERITOS DE TECATITLAN”; a.k.a. “LOS GUERRITOS”; a.k.a. “LOS GUERROS”; a.k.a. “RODRIGUEZ OLIVERA DTO”), Coto Cataluna No. 84, Zapopan, Jalisco, Mexico; Sendero de los Pinos No. 55, Zapopan, Jalisco, Mexico; Coto Cataluna No. 92, Zapopan, Jalisco, Mexico; Pablo Neruda No. 3583, Guadalajara, Jalisco, Mexico; Coto Villa Coral No. 23, Residencial Villa Palma 200, Zapopan, Jalisco, Mexico; Coto Murcia No. 16, Zapopan, Jalisco, Mexico; San Eliseo No. 1695, Zapopan, Jalisco, Mexico; (ENTITY) [SDNTK]

Individuals:

1. RODRIGUEZ OLIVERA, Luis (a.k.a. MORFAN RODRIGUEZ, Luis Fernando; a.k.a. RODRIGUEZ MORFIN, Luis; a.k.a. RODRIGUEZ OLIVERA, Luis Fernando), Plaza Pabellion, Zapopan, Jalisco, Mexico; Colonia Providencia, Calle Quebec, Apt. 1127, Guadalajara, Jalisco, Mexico; 4179 Colonia Miravalle, Guadalajara, Jalisco, Mexico; Sendero Las Acacias 92, Guadalajara, Jaslico, Mexico; Vereda Del Canario 1, Guadalajara, Jalisco, Mexico; Puerto de Hierro, Zapopan, Jalisco, Mexico; Fresno, CA; DOB 3 Apr 1972; alt. DOB 1960; alt. DOB 1966; POB Tecalitlan, Jalisco, Mexico; citizen Mexico; nationality Mexico; (INDIVIDUAL) [SDNTK]

2. RODRIGUEZ OLIVERA, Esteban (a.k.a. MORFIN RODRIGUEZ, Esteban; a.k.a. RODRIGUEZ JIMENEZ, Esteban; a.k.a. RODRIGUEZ LARIOS, Esteban; a.k.a. RODRIGUEZ MORFIN, Esteban; a.k.a. “VALENCIA, Esteban”), Sendera las Acacias 92, Guadalajara, Jalisco, Mexico; Ricardo Giradles 5107, Colonia Jardines de Universidad, Guadalajara, Mexico; Vereda del Canario 1, Guadalajara, Jalisco, Mexico; Ciudad Victoria, Allende Hwy, Allende, Guanajuato, Mexico; Ocampo 49, Tecalitlan, Jalisco, Mexico; Puerto de Hierro, Zapopan, Jalisco, Mexico; Mexico City, Distrito Federal, Mexico; Universidad, Guadalajara, Jalisco, Mexico; DOB 19 Dec 1964; POB Tecalitlan, Jalisco, Mexico; citizen Mexico; nationality Mexico; Passport 0801009914 (Mexico) issued 2 Nov 2008 expires 2 Nov 2018; (INDIVIDUAL) [SDNTK]

3. RODRIGUEZ OLIVERA, Daniel (a.k.a. RODRIGUEZ MORFIN, Daniel), Puerto de Hierro, Zapopan, Jalisco, Mexico; Vereda del Canario 1, Guadalajara, Jalisco, Mexico; Sendero Las Acacias 92, Guadalajara, Jalisco, Mexico; DOB 14 Feb 1974; alt. DOB 1973; POB Jalisco, Mexico; alt. POB Tecalitlan, Jalisco, Mexico; citizen Mexico; nationality Mexico; C.U.R.P. ROOD740214HJCDLN09 (Mexico); Passport 140044764 (Mexico); (INDIVIDUAL) [SDNTK]

4. RODRIGUEZ OLIVERA, Miguel (a.k.a. MORFIN RODRIGUEZ, Miguel), Puerto de Hierro, Zapopan, Jalisco, Mexico; C Simon Blvd. No. 47, Col Aviacio, Tijuana, Baja California, Mexico; Vereda del Canario 1, Guadalajara, Jalisco, Mexico; Sendero Las Acacias 92, Guadalajara, Jalisco, Mexico; Puerto Vallarta, Jalisco, Mexico; Fraccionamiento Santa Isabel, Paseo San Eliseo 1695, Zapopan, Jalisco, Mexico; DOB 11 Aug 1976; alt. DOB 2 Sep 1977; POB Jalisco, Mexico; citizen Mexico; nationality Mexico; C.U.R.P. ROOM760811HJCDLG00 (Mexico); (INDIVIDUAL) [SDNTK]

Dated: February 1, 2011.
Adam J. Szubin,
Director, Office of Foreign Assets Control.

[FR Doc. 2011-2746 Filed 2-7-11; 8:45 am]

BILLING CODE 4810-AL-P